BUREAU OF CONSUMER FINANCIAL PROTECTION

[Docket No. CFPB-2014-0016]

Disclosure of Consumer Complaint Narrative Data

AGENCY: Bureau of Consumer Financial Protection.

ACTION: Proposed policy statement; extension of comment period.

SUMMARY: The Bureau of Consumer Financial Protection (Bureau) currently discloses certain complaint data it receives regarding consumer financial products and services via its web-based, public-facing database (Consumer Complaint Database). On July 23, 2014, the Bureau published in the Federal Register a Notice of Proposed Policy Statement with Request for Public Comment (Proposed Policy Statement) proposing to expand its disclosure to include unstructured consumer complaint narrative data (narratives). The Proposed Policy Statement provided a 30-day comment period that will end on August 22, 2014. To allow interested persons additional time to consider and submit their responses, the Bureau has determined that an extension of the comment period until September 22, 2014, is appropriate.

DATES: The comment period for the Disclosure of Consumer Complaint Narrative Data Proposed Policy Statement published July 23, 2014, at 79 FR 42765, is extended. Responses must now be received on or before September 22, 2014.

ADDRESSES: You may submit comments, identified by Docket No. CFPB-2014-0016, by any of the following methods:

• Electronic: http://www.regulations.gov. Follow the instructions for submitting comments.

• Mail: Monica Jackson, Office of the Executive Secretary, Consumer Financial Protection Bureau, 1700 G Street NW., Washington DC 20552.

• Hand Delivery/Courier: Monica Jackson, Office of the Executive Secretary, Consumer Financial Protection Bureau, 1275 First Street NE., Washington DC 20002.

Instructions: All submissions should include the agency name and docket number for this proposal. Because paper mail in the Washington, DC area and at the Bureau is subject to delay, commenters are encouraged to submit comments electronically. In general, all comments received will be posted without change to http://www.regulations.gov. In addition, comments will be available for public inspection and copying at 1275 First Street NE., Washington DC 20002, on official business days between the hours of 10 a.m. and 5 p.m. eastern standard time. You can make an appointment to inspect the documents by telephoning (202) 435-7275.

All comments, including attachments and other supporting materials, will become part of the public record and subject to public disclosure. Sensitive personal information, such as account numbers or social security numbers, should not be included. Comments generally will not be edited to remove any identifying or contact information.

FOR FURTHER INFORMATION CONTACT: For general inquiries, submission process questions, or any additional information, please contact Monica Jackson, Office of the Executive Secretary, 202-435-7275.

SUPPLEMENTARY INFORMATION: On July 17, 2014, the Bureau issued the Proposed Policy Statement. The Proposed Policy Statement was published in the Federal Register on July 23, 2014. The Proposed Policy Statement seeks comment, data and information from the public on the Bureau's proposal to include narratives in the Consumer Complaint Database.

On December 8, 2011, the Bureau published in the Federal Register a proposed policy statement describing its plans to disclose certain data about the credit card complaints that consumers submit to the Bureau (December 2011 Proposed Policy Statement).¹ After receiving and considering a number of comments, the Bureau finalized its plans for publically disclosing data from consumer credit card complaints and published the final policy statement on June 22, 2012 (June 2012 Policy Statement).²

¹ 76 FR 76628, Dec. 8, 2011.

² 77 FR 37616, June 22, 2012.

Also on June 22, 2012, the Bureau concurrently published in the Federal Register a proposed policy statement describing its plans to disclose data from consumer complaints about financial products and services other than credit cards (June 2012 Proposed Policy Statement).³ After receiving and considering a number of comments, the Bureau published the final policy statement on March 25, 2013 (March 2013 Policy Statement).⁴ In the June 2012 Proposed Policy Statement, the Bureau did not propose including narratives in the Consumer Complaint Database.

³ 77 FR 37616, June 22, 2012.

⁴ 78 FR 21218, April 10, 2013.

Notwithstanding this, the Bureau received a significant number of comments specific to narrative disclosure. Consumer, civil rights, and open government groups supported disclosure on the grounds that disclosing narratives would provide consumers with more useful information on which to base financial decisions and would allow reviewers to assess the validity of the complaints. Two privacy groups, while acknowledging privacy risk stemming from publication of “non-identifiable” data and calling for further study, supported disclosure on an opt-in basis. Trade groups and industry commenters nearly uniformly opposed disclosure of consumer complaint narratives.

The Bureau believes that the utility of the overall Consumer Complaint Database would greatly increase with the inclusion of narratives. This could lead to increased use by advocates, academics, the press, and entrepreneurs, which itself would lead to increased consumer contacts with the Bureau.

The Bureau believes that the aforementioned increase in benefits and utility would lead to an increase in consumer contacts, which would have a positive effect on Bureau operations. As a critical mass of complaint data is achieved and exceeded, the representativeness of Bureau complaint data increases. Thus, narratives would not only enhance the above consumer benefits but also the many Bureau functions that rely, in part, on complaint data to perform their respective missions including the Offices of Supervision, Enforcement, and Fair Lending, Consumer Education and Engagement, and Research, Markets, and Rulemaking.

The Bureau balances interested parties' desire to have additional time to consider the issues raised in the Proposed Policy Statement, gather data, and prepare their responses, with the need to proceed expeditiously to consider comments and determine whether to issue a final policy statement. The Bureau believes that a 60-day extension is appropriate. The comment period therefore will close on September 22, 2014.

Dated: July 29, 2014.
Elizabeth A. Corbett,
Deputy Chief of Staff, Bureau of Consumer Financial Protection.

[FR Doc. 2014-18355 Filed 8-1-14; 8:45 am]

BILLING CODE 4810-AM-P